DEPARTMENT OF JUSTICE

Antitrust Division

Notice Pursuant to the National Cooperative Research and Production Act of 1993—Consortium for Battery Innovation

Notice is hereby given that, on May 28, 2019, pursuant to Section 6(a) of the National Cooperative Research and Production Act of 1993, 15 U.S.C. 4301 et seq. (“the Act”), Consortium for Battery Innovation (“CBI”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Acumuladores Moura S.A., Belo Jardim, BRAZIL; Addenda Corporation, Indianapolis, IN; Advanced Battery Concepts, Clare, MI; AFEMS, Brussels, BELGUIM; Affinerie de Pont Sainte Maxence, Brenouille, FRANCE; Akkumulatorenfabrik MOLL, Bad Staffelstein, GERMANY; Amer-Sil, Kehlen, LUXEMBOURG; ArcActive Limited, Christchurch, NEW ZEALAND; As Batteriretur, Borgenhaugen, NORWAY; Atomized Products Group, Inc., Chesapeake, VA; Aurubis AG, Hamburg, GERMANY; Banner GmbH, Linz, AUSTRIA; Battery Energy Power Solutions, Pty. Ltd., Fairfield, AUSTRALIA; Berzelius Metall GmbH, Braubach, GERMANY; Black Diamond Structures, Austin, TX; BMG Metall & Recycling, GmbH, Arnoldstein, AUSTRIA; Boliden AB, Stockholm, SWEDEN; BSB Recycling, Braubach, GERMANY; C&D Trojan Battery Company, Blue Bell, PA; Cabot Corporation, Billerica, MA; Calder Industrial Materials, Chester, UNITED KINGDOM; Campine Recycling, Beerse, BELGUIM; Cookson Group, London, UNITED KINGDOM; CoplosaSA, Barcelona, SPAIN; Crown Battery Mfg. Co., Fremont, IL; Daramic, LLC, Owensboro, KY; Doe Run Company, St. Louis, MO; East Penn Manufacturing, Lyon Station, PA; ECOBAT Technologies, Derbyshire, UNITED KINGDOM; Electric Applications Incorporated, Phoenix, AZ; EnerG2 Technologies, Inc., Seattle, WA; EnerSys, Reading, PA; EnerSys, Newport, UNITED KINGDOM; Engitec Technologies SpA, Novate Milanese, ITALY; EnviroWales, Gwent, UNITED KINGDOM; Exide Technologies Recycling II, Lda, Azambuja, PORTUGAL; Excide Technologies SLU, Poznan, POLAND; Furukawa Battery Co., Ltd., Iwaki City, JAPAN; Glencore, Baar, SWITZERLAND; Gopher Resource, Eagan, MN; Gravita India, Jaipur, INDIA; H Folke Sandelin AB, Motala, SWEDEN; HJ Enthoven & Sons, Derbyshire, UNITED KINGDOM; Hakurnas Lead Works, Ahood, ISRAEL; Hammond Group, Inc., Hammond, IN; Hoppecke Batterien GmbH & Co. KG, Brilon-Hoppecke, GERMANY; Interstate Batteries, Dallas, TX; JCI (Europe), Hannover, GERMANY; KCM SA, Plovdiv, BULGARIA; Kovohute Pribam, Pribram, CZECH REPUBLIC; LignoTech USA, Rothschild, WI; Livguard Batteries Private Limited, Gurgaon, INDIA; Lundin Mining, Stockholm, SWEDEN; Metallo Belgium N.V., Beerse, BELGUIM; Microporous, LLC, Piney Flats, TN; Microtex Energy Private Limited, Bangalore, INDIA; MPI Reciklaza, Cra Na Koroskem, SLOVENIA; Muldenhutten Recycling und Umwelttechnik GmbH, Bobritzsch-Hilbersdorf, GERMANY; Orion Engineered Carbons GmbH, Cologne, GERMANY; Penox GmbH, Ohrdrufr, GERMANY; Recylex, Nordenham, GERMANY; Rombat, Bistrita-Nasaud, ROMANIA; RSR Corporation, Dallas, TX; South32, Singapore, SINGAPORE; STCM, Bazoches-les-Gallerandes, FRANCE; Superior Graphite, Chicago, IL; TBS Engineering Ltd., Brockworth, UNITED KINGDOM; Teck Resources Limited, Anchorage, AL; Tydrolyte LLC, Troy, MI; WL Gore and Associates, Elkton, MD; WaveTech GmbH, Rheinbach, GERMANY; and Zhejiang Narada Power Source Co. Ltd., Hangzhou, PEOPLE'S REPUBLIC OF CHINA.

Participants will provide economic support, advice, and other assistance to CBI, which, as an ILA project, is subject to the oversight of the ILA Board of Directors.

ILA's current membership consists primarily of lead producers and other companies having a direct interest in lead and its use. ILA is a non-profit, tax-exempt research organization whose functions include the management of research to improve existing uses and advance new applications for lead. The CBI program has been established by ILA to carry out research and development of lead-based battery technologies. The CBI participants include companies who are not members of ILA.

The general area of CBI's planned activity is to serve the needs of its members by supporting cutting edge pre-competitive scientific research and promoting innovation in lead battery technology to maximize the market potential for lead batteries and the prosperity of actors in the lead battery value chain. CBI's vision is to be recognized by all stakeholders as the trusted global center for collaborative, pre-competitive lead battery research and authoritative voice on lead battery innovation by taking a leadership role in supporting lead battery research investment and the promotion of innovation. Membership in the Consortium includes lead producers; battery manufacturers; battery equipment, material and component manufacturers/suppliers; commodity traders; end users; research, testing and other services; universities; and affiliates. Consortium membership remains open, and the parties intend to file additional written notification disclosing all changes in membership to CBI.

Suzanne Morris,
Chief, Premerger and Division Statistics Unit, Antitrust Division.

[FR Doc. 2019-13157 Filed 6-20-19; 8:45 am]

BILLING CODE 4410-11-P